DEPARTMENT OF ENERGY

Federal Energy Regulatory Commission

[Project No. 11834-057]

FPL Energy Maine Hydro, LLC; Notice of Intent To Prepare an Environmental Document and Soliciting Comments

February 24, 2010.

Take notice that the following material addressing required dam safety measures has been filed with the Commission and is available for public inspection:

a. Filing: Maine Waterway Development and Conservation Act Permit and Water Quality Certification Application for replacement of the spillway at the Upper Dam Development, which is being required under Part 12 of the Commission's regulations.

b. Project No: 11834-057.

c. Date Filed: January 28, 2010.

d. Licensee: FPL Energy Maine Hydro, LLC.

e. Name of Project: Upper and Middle Dam Storage Project.

f. Location: The Upper and Middle Dam Storage Project is located on the Rapid River in Oxford and Franklin Counties, Maine.

g. Filed Pursuant to: Federal Power Act, 16 U.S.C. 791a-825r.

h. Licensee Contact: Bill Scott, NextEra Energy Maine Operating Services, LLC, 160 Capitol Street, Suite 8, Augusta, Maine 04330, (207) 795-1342 ext. 246.

i. FERC Contact: Rebecca Martin, (202) 502-6012, and e-mail: Rebecca.martin@ferc.gov.

j. Deadline for filing comments: March 24, 2010.

Comments may be filed electronically via the Internet, see 18 CFR 385.2001 (a)(1)(iii) and the instructions on the Commission's Web site at http://www.ferc.gov under the “e-filing” link. If unable to be filed electronically, documents may be paper-filed. To paper-file, an original and eight copies should be mailed to: The Secretary, Federal Energy Regulatory Commission, 888 First Street NE., Washington, DC 20426. For more information on how to submit these types of filings, please go to the Commission's Web site located at http://www.ferc.gov.filing-comments.asp.

Please include the project number (P-11834-057) on any comments.

k. Description of material: FPL Energy Maine Hydro, LLC has filed a copy of its application for a Maine Waterway Development and Conservation Act Permit filed with the Maine Land Use Regulation Commission for its proposed replacement of the spillway at the Upper Dam Development, which is part of the Upper and Middle Dam Storage Project (FERC No. 11834). Replacement of the Upper Dam Development spillway is being required under Part 12 of the Commission's regulations for safety of water power projects and project works.

The proposal involves removal of the existing gated spillway structure and gatehouse, construction of a new spillway designed for the capacity and elevation required for a probable maximum flood, and modification of the existing earthen embankments for improved slope stability and safety. The proposed remedial measures would not alter the basic footprint of the existing dam or involve substantial modification of the licensed operation of the project. Work is proposed to begin on July 1, 2010, and be completed by December 2011.

The Commission intends to prepare an environmental document, under the National Environmental Policy Act (NEPA), for the proposed Upper Dam spillway replacement. The NEPA document will analyze the environmental impacts that would be caused by the proposed replacement activities, and identify measures that would help mitigate adverse effects.

l. Locations of the Filing: A copy of the filing is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659.

m. Individuals desiring to be included on the Commission's mailing list should so indicate by writing to the Secretary of the Commission.

n. Comments: Anyone may submit comments on the material described in this notice. In completing its environmental review, the Commission will consider all comments filed. Any comments must be received on or before the deadline for filing comments specified above.

o. Any filing made with the Commission in response to this notice must bear in all capital letters the title “COMMENTS” and the Project Number: P-11834-057.

p. Agency Comments: Federal, state, and local agencies are invited to file comments on the material described in this notice. A copy of the filing may be obtained by agencies directly from the licensee. If an agency does not file comments within the time specified for filing comments, it will be presumed to have no comments. One copy of an agency's comments must also be sent to the licensee's representatives.

Kimberly D. Bose,
Secretary.

[FR Doc. 2010-4355 Filed 3-2-10; 8:45 am]

BILLING CODE 6717-01-P